DEPARTMENT OF COMMERCE

National Oceanic and Atmospheric Administration

RIN 0648-XI06

Marine Mammal Authorization Program Integration of Registration for Selected West Coast Fisheries

AGENCY: National Marine Fisheries Service (NMFS), National Oceanic and Atmospheric Administration (NOAA), Commerce.

ACTION: Notice; expansion of integrated registration program.

SUMMARY: NMFS is providing notice that it is increasing the number of fisheries for which the Marine Mammal Authorization Program (MMAP) registration is integrated with existing state and Federal fishery licensing and permitting programs, beginning with the 2009 List of Fisheries (LOF). NMFS is integrating MMAP registration at this time only for specific Category I or II fisheries regulated under fishery management plans (FMPs) administered by the Southwest Regional Office, or fisheries under permits issued by the state of California. Fishermen who participate in a Category I or II fishery for which registration is not integrated with existing state or Federal permitting programs must continue to register directly with NMFS through the MMAP.

ADDRESSES: For West Coast fisheries, registration information and marine mammal injury/mortality reporting forms may be obtained from the following regional office: NMFS, Southwest Region, Sustainable Fisheries Division, Attn: Lyle Enriquez, 501 West Ocean Blvd., Suite 4200, Long Beach, CA 90802.

FOR FURTHER INFORMATION CONTACT: Patricia Lawson, Office of Protected Resources, 301-713-2322; or Lyle Enriquez, Southwest Regional Office, 562-980-4025.

SUPPLEMENTARY INFORMATION: According to the Marine Mammal Protection Act (MMPA), all fishermen who participate in a Category I or II fishery listed in the annual LOF must be registered with a MMAP (section 118(c)(2)(A)). A fishery is classified on the LOF based on whether it has frequent (Category I), occasional (Category II), or remote (Category III) likelihood of incidental mortality and serious injury (or bycatch) of marine mammals. The MMAP provides an authorization for commercial fishermen which allows the incidental (i.e., non-intentional) taking of marine mammals pursuant to the MMPA during the course of commercial fishing operations. Participants in Category III fisheries are not required to register with the MMAP. Fishermen participating in any commercial fishery, regardless of category, are required to report all incidental injuries and mortalities of marine mammals to NMFS within 48 hours of returning from a fishing trip. For a complete description of requirements for fishermen participating in Category I, II, and III fisheries, please consult 50 CFR part 229, subpart A.

Rather than requiring all participants in Category I and II fisheries to register individually, the MMPA directs NMFS to integrate registration with existing state or Federal fishery permitting or licensing programs (section 118(c)(5)(A)). NMFS' goals for the integrated registration program include ensuring consistency in registration procedures across a greater number of fisheries, increasing the number of registrants to better reflect the level of participation in the fisheries, and conducting outreach to the fishing industry with regard to MMPA requirements. Using data from existing fishery licensing programs, the MMAP integration will reduce the registration burden on the fishing industry while facilitating the protection and conservation of marine mammals through increased outreach efforts. In a licensing system that is integrated with the MMAP, fishermen are not required to submit an MMAP registration/renewal form or the $25 processing fee to NMFS in order to receive or renew their MMAP Authorization Certificates.

NMFS will integrate the following fisheries that are managed under the Magnuson-Stevens Fishery Conservation and Management Act, 16 U.S.C. 1801 et seq.: the Coastal Pelagics FMP (California anchovy, mackerel, and sardine purse seine fishery) fisheries, and the Highly Migratory Species FMP (California pelagic longline, California tuna purse seine, and California/Oregon drift gillnet fisheries) fisheries. In order to integrate state-managed fisheries, NMFS is obtaining fishery license-holder information from the State of California. Category I and II state managed fisheries that NMFS will integrate include the California angel shark/halibut and other species set gillnet; and California squid purse seine fisheries. NMFS will make an annual data request to the state of California for permit or license-holder information. Using this information, NMFS will mail MMAP Authorization Certificates, marine mammal injury/mortality reporting forms, and other program information to each permit or license-holder. Fishermen who participate in an integrated Category I or II state fishery do not need to take any additional action to register under the MMAP, as long as they hold a valid state fishing permit or license for the affected fishery. However, fishermen who participate in Category I or II state and/or Federal fisheries not yet integrated with the MMAP registration system (i.e., fisheries for which no Federal or state permits are required) must contact the NMFS, Southwest Regional Office, Sustainable Fisheries Division (see FOR FURTHER INFORMATION CONTACT), in order to register and receive an MMAP Authorization Certificate. If a fisherman participating in a Category I or II fishery, who expects to receive automatic registration, does not receive an Authorization Certificate by January 1 of each calendar year hereafter, the fisherman should contact NMFS (see FOR FURTHER INFORMATION CONTACT) to inquire about the status of his/her registration. Alternatively, he/she may apply for registration directly, following the procedures in 50 CFR 229.4(b). In any case, every fisherman fishing in a Category I or II fishery must have an Authorization Certificate.

NMFS will work with the permit-issuing agencies in each state to identify and attempt to limit mailing of Authorization Certificates to only those participants in Category I and II fisheries. Some permit systems, however, do not allow identification of fishermen using specific gear types in a way that matches the fishery designation referenced in the LOF. In cases where NMFS or the state permit-issuing agency cannot confidently determine which specific fishery identified in the LOF each fishermen participates in, based on the permit or license information, NMFS may inadvertently issue Authorization Certificates to fishermen participating in Category III fisheries. This approach, which may be confusing to Category III fishermen who are not required to be registered under the MMAP, is necessary to ensure that fishermen who must register with the MMAP are not unintentionally excluded from notification.

Authority: 16 U.S.C. 1801 et seq.

Dated: August 25, 2008.
Emily H. Menashes,
Acting Director, Office of Sustainable Fisheries, National Marine Fisheries Service.

[FR Doc. E8-20006 Filed 8-27-08; 8:45 am]

BILLING CODE 3510-22-S